DEPARTMENT OF TRANSPORTATION

Federal Aviation Administration

14 CFR Part 39

[Docket No. FAA-2004-18033; Directorate Identifier 2004-CE-16-AD; Amendment 39-13828; AD 2004-21-08]

RIN 2120-AA64

Airworthiness Directives; Cessna Aircraft Company Models 190, 195 (L-126A,B,C), 195A, and 195B Airplanes

AGENCY: Federal Aviation Administration (FAA), DOT.

ACTION: Final rule.

SUMMARY: The FAA adopts a new airworthiness directive (AD) for all Cessna Aircraft Company (Cessna) Models 190, 195 (L-126A,B,C), 195A, and 195B airplanes that are equipped with certain inboard aileron hinge brackets. This AD requires you to repetitively inspect the affected inboard aileron hinge brackets for cracks or corrosion and replace them if found cracked or corroded. Replacement with aluminum brackets would terminate the need for the repetitive inspections. This AD results from several reports of cracks and corrosion found on the magnesium aileron hinge brackets. Magnesium is known to be susceptible to corrosion. We are issuing this AD to detect and correct corrosion damage to the inboard aileron hinge brackets. Such damage could result in the brackets cracking across the bearing boss and could lead to the aileron separating from the airplane with consequent reduced or loss of control of the airplane.

DATES: This AD becomes effective on November 30, 2004.

As of November 30, 2004, the Director of the Federal Register approved the incorporation by reference of certain publications listed in the regulation.

ADDRESSES: To get the service information identified in this AD, contact Cessna Aircraft Company, Product Support P.O. Box 7706, Wichita, Kansas 67277; telephone: (316) 517-5800; facsimile: (316) 942-9006. To review this service information, go to the National Archives and Records Administration (NARA). For information on the availability of this material at NARA, go to: http://www.archives.gov/federal_register/code_of_federal_regulations/ibr_locations.html or call (202) 741-6030.

To view the AD docket, go to the Docket Management Facility; U.S. Department of Transportation, 400 Seventh Street, SW., Nassif Building, Room PL-401, Washington, DC 20590-0001 or on the Internet at http://dms.dot.gov. The docket number is FAA-2004-18033; Directorate Identifier 2004-CE-16-AD.

FOR FURTHER INFORMATION CONTACT: Gary D. Park, Aerospace Engineer, FAA, Wichita Aircraft Certification Office, 1801 Airport Road, Room 100, Mid-Continent Airport, Wichita, Kansas 67209; telephone: (316) 946-4123; facsimile: (316) 946-4107.

SUPPLEMENTARY INFORMATION:

Discussion

What events have caused this AD? The FAA has received several reports of cracks and corrosion on part number (P/N) 0322709 and P/N 0322709-1 inboard aileron hinge brackets on Cessna Models 190, 195 (L-126A,B,C), 195A, and 195B airplanes. These inboard aileron hinge brackets are constructed of magnesium, which is highly susceptible to corrosion.

When corrosion starts to develop, the inboard aileron hinge brackets could crack across the bearing boss.

What is the potential impact if FAA took no action? Cracked or corroded inboard aileron hinge brackets, if not detected and corrected, could result in the ailerons separating from the airplane with consequent reduced or loss of control of the airplane.

Has FAA taken any action to this point? We issued a proposal to amend part 39 of the Federal Aviation Regulations (14 CFR part 39) to include an AD that would apply to all Cessna Models 190, 195 (L-126A,B,C), 195A, and 195B airplanes. This proposal was published in the Federal Register as a notice of proposed rulemaking (NPRM) on July 15, 2004 (69 FR 42358). The NPRM proposed to require you to repetitively inspect the affected inboard aileron hinge brackets for cracks or corrosion and replace them if found cracked or corroded. Replacement with aluminum brackets would terminate the need for the repetitive inspections.

Accomplishment of the proposed inspections would be following Cessna Single Engine Service Bulletin SEB04-1, dated April 26, 2004.

Comments

Was the public invited to comment? We provided the public the opportunity to participate in developing this AD. The following presents the comments received on the proposal and FAA's response to each comment:

Comment Issue No. 1: Allow for Replacement of Inboard Aileron Hinge Brackets Other Than Cessna Inboard Aileron Hinge Brackets

What is the commenter's concern? Several commenters point out that the NPRM is confusing. They state that the NPRM preamble states that you must replace any inboard aileron hinge bracket made from magnesium with one made from aluminum. However, the actual AD portion of the NPRM refers to replacing with inboard aileron hinge brackets as specified in Cessna Single Engine Service Bulletin SEB04-1, dated April 26, 2004. The commenters believe that this could be confusing in the field as to whether you can install non-Cessna parts.

Some of these commenters wanted FAA to list the parts that were approved for installation, including Cessna parts, supplemental type certificate (STC) parts, and parts manufacturer approval (PMA) parts.

What is FAA's response to the concern? The FAA agrees that the NPRM is confusing. The intent was to allow installation of any FAA-approved inboard aileron hinge bracket that is made from aluminum as terminating action for the repetitive inspections. We will rewrite this portion of the AD to ensure that the intent is communicated correctly.

However, listing all approved replacement inboard aileron hinge brackets in the AD is a tedious task and one that could become burdensome if others wanted the list updated at a later time. Therefore, we are not including a list of FAA-approved replacement parts. We will include information that states that FAA-approved replacement parts may be Cessna parts, STC parts, or PMA parts, etc.

The final rule reflects the change in wording to ensure the understanding that you may install non-Cessna parts.

Comment Issue No. 2: Refer to the Model 195 Airplanes as Model 195 (L-126A,B,C) Airplanes

What is the commenter's concern? One commenter recommends that FAA change reference to the Model 195 airplanes in the applicability to Model 195 (L-126A,B,C) airplanes. This would coincide with Type Certificate Data Sheet A-790, Revision 36, dated March 31, 2003.

What is FAA's response to the concern? The FAA agrees and will change the final rule AD accordingly.

Conclusion

What is FAA's final determination on this issue? We have carefully reviewed the available data and determined that air safety and the public interest require adopting the AD as proposed except for the changes discussed above and minor editorial corrections. We have determined that these changes and minor corrections:

—Are consistent with the intent that was proposed in the NPRM for correcting the unsafe condition; and

—Do not add any additional burden upon the public than was already proposed in the NPRM.

Docket Information

Where can I go to view the docket information? You may view the AD docket that contains information relating to this subject in person at the DMS Docket Offices between 9 a.m. and 5 p.m. (eastern standard time), Monday through Friday, except Federal holidays. The Docket Office (telephone 1-800-647-5227) is located on the plaza level of the Department of Transportation NASSIF Building at the street address stated in ADDRESSES. You may also view the AD docket on the Internet at

http://dms.dot.gov.

Changes to 14 CFR Part 39—Effect on the AD

How does the revision to 14 CFR part 39 affect this AD? On July 10, 2002, the FAA published a new version of 14 CFR part 39 (67 FR 47997, July 22, 2002), which governs the FAA's AD system. This regulation now includes material that relates to altered products, special flight permits, and alternative methods of compliance. This material previously was included in each individual AD. Since this material is included in 14 CFR part 39, we will not include it in future AD actions.

Costs of Compliance

How many airplanes does this AD impact? We estimate that this AD affects 1,180 airplanes in the U.S. registry.

What is the cost impact of this AD on owners/operators of the affected airplanes? We estimate the following costs to do this proposed inspection:

Labor cost | Parts cost | Total cost per airplane | Total cost on U.S. operators
1 workhour × $65 per hour = $65 | No special parts necessary for inspection | $65 | 1,180 airplanes × $65 = $76,700.

We estimate the following costs to do any necessary replacements that would be required based on the results of this proposed inspection. We have no way of determining the number of airplanes that may need this replacement:

Labor cost | Parts cost | Total cost per airplane
6 workhours × $65 per hour = $390 | $2,954 | $3,344

Regulatory Findings

Will this AD impact various entities? We have determined that this AD will not have federalism implications under Executive Order 13132. This AD will not have a substantial direct effect on the States, on the relationship between the national government and the States, or on the distribution of power and responsibilities among the various levels of government.

Will this AD involve a significant rule or regulatory action? For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD and placed it in the AD Docket. You may get a copy of this summary by sending a request to us at the address listed under ADDRESSES. Include “Docket No. FAA-2004-18033; Directorate Identifier 2004-CE-16-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2004-21-08 Cessna Aircraft Company: Amendment 39-13828; Docket No. FAA-2004-18033; Directorate Identifier 2004-CE-16-AD.

When Does This AD Become Effective?

(a) This AD becomes effective on November 30, 2004.

What Other ADs Are Affected by This Action?

(b) None.

What Airplanes Are Affected by This AD?

(c) This AD affects Models 190, 195 (L-126A, B, C), 195A, and 195B airplanes, all serial numbers, that are:

(1) certificated in any category; and

(2) equipped with at least one part number (P/N) 0322709 or P/N 0322709-1 inboard aileron hinge bracket.

What Is the Unsafe Condition Presented in This AD?

(d) This AD is the result of several reports of cracks and corrosion found on the magnesium aileron hinge brackets. Magnesium is known to be susceptible to corrosion. We are issuing this AD to detect and correct corrosion damage to the inboard aileron hinge brackets. Such damage could result in the brackets cracking across the bearing boss and could lead to the aileron separating from the airplane with consequent reduced or loss of control of the airplane.

What Must I Do To Address This Problem?

(e) To address this problem, you must do the following:

Actions | Compliance | Procedures
(1) Inspect each P/N 0322709 and P/N 0322709-1 inboard aileron hinge bracket or any other bracket made from magnesium for cracks or corrosion | Initially inspect within the next 100 hours time-in-service (TIS) after November 30, 2004 (the effective date of this AD), unless already done. Repetitively inspect thereafter at intervals not to exceed 100 hours TIS until each bracket is replaced with an FAA-approved bracket that is made with aluminum | Follow the procedures in Cessna Single Engine Service Bulletin SEB04-1, dated April 26, 2004.
(2) Replace any cracked or corroded inboard aileron hinge bracket (i) If replacement is with a bracket made from magnesium, do the 100-hour TIS interval repetitive inspections as required in paragraph (e)(1) of this AD (ii) If replacement is with an FAA-approved bracket that is made from aluminum, then no further inspections are necessary. These can be Cessna parts or non-Cessna parts | Prior to further flight after any inspection where any cracked or corroded bracket is found. You may terminate the repetitive inspections required by this AD when all brackets are replaced with FAA-approved brackets that are made with aluminum, as specified in the service information | Use the procedures included with the FAA-approved replacement and the FAA-approved maintenance manual. This could include Cessna parts, supplemental type certificate (STC) parts, or parts manufacturer approval (PMA) parts, etc.
(3) As terminating action for the repetitive inspections, you may replace all inboard aileron hinge brackets with FAA-approved brackets that are made from aluminum (as specified in paragraph (e)(2)(ii) of this AD) regardless if any corrosion or crack is found | You may do this replacement at any time, but you must replace any corroded or cracked bracket prior to further flight after the applicable inspection where any corrosion or crack is found | Use the procedures included with the approved replacement and the FAA-approved maintenance manual. This could include Cessna parts, STC parts, or PMA parts, etc.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office, FAA. For information on any already approved alternative methods of compliance, contact Gary D. Park, Aerospace Engineer, FAA, Wichita Aircraft Certification Office, 1801 Airport Road, Room 100, Mid-Continent Airport, Wichita, Kansas 67209; telephone: (316) 946-4123; facsimile: (316) 946-4107.

Does This AD Incorporate Any Material by Reference?

(g) You must do the inspections required by this AD following the instructions in Cessna Single Engine Service Bulletin SEB04-1, dated April 26, 2004. The Director of the Federal Register approved the incorporation by reference of this service bulletin in accordance with 5 U.S.C. 552(a) and 1 CFR part 51. To get a copy of this service information, contact Cessna Aircraft Company, Product Support P.O. Box 7706, Wichita, Kansas 67277; telephone: (316) 517-5800; facsimile: (316) 942-9006. To review copies of this service information, go to the National Archives and Records Administration (NARA). For information on the availability of this material at NARA, go to: http://www.archives.gov/federal_register/code_of_federal_regulations/ibr_locations.html or call (202) 741-6030. To view the AD docket, go to the Docket Management Facility; U.S. Department of Transportation, 400 Seventh Street, SW., Nassif Building, Room PL-401, Washington, DC 20590-001 or on the Internet at http://dms.dot.gov. The docket number is FAA-2004-18033.

Issued in Kansas City, Missouri, on October 13, 2004.
William J. Timberlake,
Acting Manager, Small Airplane Directorate, Aircraft Certification Service.

[FR Doc. 04-23729 Filed 10-25-04; 8:45 am]

BILLING CODE 4910-13-P